DEPARTMENT OF ENERGY

Federal Energy Regulatory Commission

Notice of Application for Amendment of License and Soliciting Comments, Protests, and Motions To Intervene

April 4, 2005.

Take notice that the following application has been filed with the Commission and is available for public inspection:

a. Application Type: Non-project use of project lands and waters.

b. Project Number: P-2503-087.

c. Date Filed: March 16, 2005.

d. Applicant: Duke Power, a division of Duke Energy Corporation.

e. Name of Project: Keowee & Jocassee.

f. Location: The project is located on the Keowee, Little, Whitewater, Toxaway, Thompson, and Horsepasture Rivers in Oconee and Pickens Counties, South Carolina and Transylvania County, North Carolina.

g. Filed Pursuant to: Federal Power Act, 16 U.S.C. 791(a)-825(r).

h. Applicant Contacts: Joe Hall, Duke Energy Corporation, P.O. Box 1006, Charlotte, NC 28201-1006; phone: (704) 382-8576.

i. FERC Contact: Any questions on this notice should be addressed to Steve Naugle at (202) 502-6061, or by e-mail: steven.naugle@ferc.gov.

j. Deadline for Filing Comments and/or Motions: May 6, 2005.

k. Description of the Application: Duke Power requests Commission approval to lease 3.569 acres of project property to Gap Hill Landing & Gap Hill Campground, LLC (Gap Hill) for the continued operation of a commercial marina located on Lake Keowee. Under the proposed lease, Gap Hill would replace the marina's fuel dock, add a pump-out-station dock, add three cluster docks, replace three cluster docks, add two fingers to an existing dock, and stabilize two shoreline areas with a new seawall and additional rip-rap. After the completion of these marina improvements, the leased area would contain 29 docks and two boat launch ramps. The marina would continue to serve the general public and patrons of Gap Hill Campground.

l. Location of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, or for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-1494-269). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See 18 CFR 385.2001(a)(1)(iii) and the instructions on the Commission's Web site at http://www.ferc.gov under the “e-Filing” link.

Magalie R. Salas,
Secretary.

[FR Doc. E5-1648 Filed 4-8-05; 8:45 am]

BILLING CODE 6717-01-P